DEPARTMENT OF THE INTERIOR

National Park Service

[NPS-WASO-NAGPRA-17331;PPWOCRADN0-PCU00RP14.R50000]

Notice of Inventory Completion: Beneski Museum of Natural History, Amherst College, Amherst, MA

AGENCY: National Park Service, Interior.

ACTION: Notice.

SUMMARY: The Beneski Museum of Natural History, Amherst College (formerly the Pratt Museum of Natural History) has completed an inventory of human remains, in consultation with the appropriate Indian tribes, and has determined that no cultural affiliation between the human remains and any present-day Indian tribes or Native Hawaiian organizations can be established on the basis of the documentation available. Representatives of any Indian tribe or Native Hawaiian organization not identified in this notice that wish to request transfer of control of these human remains should submit a written request to the Beneski Museum of Natural History, Amherst College. If no additional requestors come forward, transfer of control of the human remains to the Indian tribes or Native Hawaiian organizations stated in this notice may proceed.

DATES: Representatives of any Indian tribe or Native Hawaiian organization not identified in this notice that wish to request transfer of control of these human remains should submit a written request with information in support of the request to the Beneski Museum of Natural History, Amherst College at the address in this notice by March 6, 2015.

ADDRESSES: Tekla A. Harms, NAGPRA Coordinator, Beneski Museum of Natural History, Amherst College, Amherst, MA 01002, telephone (413) 542-2233, email taharms@amherst.edu.

SUPPLEMENTARY INFORMATION: Notice is here given in accordance with the Native American Graves Protection and Repatriation Act (NAGPRA), 25 U.S.C. 3003, of the completion of an inventory of human remains under the control of the Beneski Museum of Natural History, Amherst College. The human remains were removed from Tennessee.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the NAGPRA Coordinator and museum staff of the Beneski Museum of Natural History, Amherst College, and their agents, in consultation with representatives of the Absentee-Shawnee Tribe of Indians of Oklahoma; Alabama-Coushatta Tribe of Texas (previously listed as the Alabama-Coushatta Tribes of Texas); Alabama-Quassarte Tribal Town; Cherokee Nation; Eastern Band of Cherokee Indians; Poarch Band of Creeks (previously listed as the Poarch Band of Creek Indians of Alabama); Seminole Tribe of Florida (previously listed as the Seminole Tribe of Florida (Dania, Big Cypress, Brighton, Hollywood & Tampa Reservations)); Shawnee Tribe; The Chickasaw Nation; The Choctaw Nation of Oklahoma; The Muscogee (Creek) Nation; The Quapaw Tribe of Indians; The Seminole Nation of Oklahoma; Thlopthlocco Tribal Town; and the United Keetoowah Band of Cherokee Indians in Oklahoma. Representatives of the Beneski Museum also contacted, but were not able to consult with, the Eastern Shawnee Tribe of Oklahoma, Kialegee Tribal Town, and the Tunica-Biloxi Indian Tribe.

History and Description of the Remains

At an unknown date, human remains representing, at minimum, one individual were removed from Tennessee. The remains consist of one cranium that is without the lower jaw, without part of the upper jaw, and missing many teeth. The cranium appears to have been modified during growth. It is markedly flattened in the forehead, and flattened and indented on the back of the cranium, opposite the forehead, so that the forehead and back of the cranium slope toward the top of the cranium. The sides of the cranium bulge out slightly, so that the face looks widened, especially in the cheekbones. Minor repairs in plaster or putty were made to the cranium at some time.

The Beneski Museum of Natural History, Amherst College has no collection or provenience information for these remains. The only existing information derives from inked lettering on the cranium, which says: “Indian S. Tennessee Adult [male gender symbol] CW.” The cranium also bears the numbers GT 2045 and A-32, neither of which corresponds to any cataloging system in use at any time in the history of the Beneski Museum. No known individuals have been identified. No associated funerary objects are present.

Determinations Made by the Beneski Museum of Natural History, Amherst College

Officials of the Beneski Museum of Natural History, Amherst College have determined that:

• Pursuant to 25 U.S.C. 3001(9), the human remains described in this notice are Native American based on the physical evidence from the cranium.

• Pursuant to 25 U.S.C. 3001(9), the human remains described in this notice represent the physical remains of one individual of Native American ancestry.

• Pursuant to 25 U.S.C. 3001(2), a relationship of shared group identity cannot be reasonably traced between the Native American human remains and any present-day Indian tribe.

• According to final judgments of the Indian Claims Commission, the land from which the Native American human remains were removed is the aboriginal land of the Eastern Band of Cherokee Indians.

• Treaties, Acts of Congress, or Executive Orders, including Indian Land Cessions in the period 1784-1894 for the State of Tennessee, indicate that the land from which the Native American human remains were removed is the aboriginal land of the Cherokee Nation; Eastern Band of Cherokee Indians; The Chickasaw Nation; and the United Keetoowah Band of Cherokee Indians in Oklahoma.

• Pursuant to 43 CFR 10.11(c)(1), the disposition of the human remains may be the Cherokee Nation; Eastern Band of Cherokee Indians; The Chickasaw Nation; and the United Keetoowah Band of Cherokee Indians in Oklahoma.

Additional Requestors and Disposition

Representatives of any Indian tribe or Native Hawaiian organization not identified in this notice that wish to request transfer of control of these human remains should submit a written request with information in support of the request to Tekla A. Harms, NAGPRA Coordinator, Beneski Museum of Natural History, Amherst College, Amherst, MA 01002, telephone (413) 542-2233, email taharms@amherst.edu, by March 6, 2015. After that date, if no additional requestors have come forward, transfer of control of the human remains to the Cherokee Nation; Eastern Band of Cherokee Indians; The Chickasaw Nation; the United Keetoowah Band of Cherokee Indians in Oklahoma; and the Quapaw Tribe of Indians (when joined to the request of one or more of the foregoing Indian tribes) may proceed.

The Beneski Museum of Natural History, Amherst College is responsible for notifying the Cherokee Nation; Eastern Band of Cherokee Indians; The Chickasaw Nation; and the United Keetoowah Band of Cherokee Indians in Oklahoma that this notice has been published.

Dated: December 16, 2014.
Melanie O'Brien,
Acting Program Manager, National NAGPRA Program.

[FR Doc. 2015-02214 Filed 2-3-15; 8:45 am]

BILLING CODE 4312-50-P